DEPARTMENT OF COMMERCE

International Trade Administration

[A-549-502]

Circular Welded Carbon Steel Pipes and Tubes From Thailand: Final Results of Antidumping Duty Administrative Review; 2022-2023

AGENCY: Enforcement and Compliance, International Trade Administration, Department of Commerce.

SUMMARY: The U.S. Department of Commerce (Commerce) determines that the two exporters subject to this review, Saha Thai Steel Pipe Public Co., Ltd. (Saha Thai) and Thai Premium Pipe Co. Ltd. (TPP), did not make sales of subject merchandise at less than normal value during the period of review (POR) March 1, 2022, through February 28, 2023.

DATES: Applicable May 29, 2024.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On March 6, 2024, Commerce published the preliminary results of the 2022-2023 administrative review of the antidumping duty order on circular welded carbon steel pipes and tubes (CWP) from Thailand in the Federal Register and invited interested parties to comment.¹ We received no comments from interested parties on the Preliminary Results, and we have made no changes to the Preliminary Results. Accordingly, no decision memorandum accompanies this Federal Register notice. The Preliminary Results are hereby adopted in these final results. Commerce conducted this administrative review in accordance with section 751(a) of the Tariff Act of 1930, as amended (the Act).

¹ See Circular Welded Carbon Steel Pipes and Tubes from Thailand: Preliminary Results and Rescission, in Part, of Antidumping Duty Administrative Review; 2022-2023, 89 FR 15971 (March 6, 2024) (Preliminary Results), and accompanying Preliminary Decision Memorandum.

Scope of the Order

The products covered by this order are circular welded carbon steel pipes and tubes from Thailand. For a complete description of the scope of the order, see the Preliminary Results.²

² Id.

Final Results of Review

We determine that the following weighted-average dumping margin exists for the period March 1, 2022, through February 28, 2023:

Producer/exporter | Weighted- average dumping margin (percent)
Saha Thai Steel Pipe Public Co., Ltd. (also known as Saha Thai Steel Pipe (Public) Company, Ltd.) | 0.00
Thai Premium Pipe Co. Ltd | 0.00

Disclosure

Normally, Commerce discloses to interested parties the calculations of the final results of an administrative review within five days of a public announcement or, if there is no public announcement, within five days of the date of publication of the notice of final results in the Federal Register, in accordance with 19 CFR 351.224(b). However, because we have made no changes to the Preliminary Results, there are no calculations to disclose.

Assessment Rates

Consistent with section 751(a)(2)(C) of the Act and 19 CFR 351.212(b), upon completion of the administrative review, Commerce shall determine, and U.S. Customs and Border Protection (CBP) shall assess, antidumping duties on all appropriate entries of subject merchandise covered this review. Because both of the respondents' weighted-average dumping margins or an importer-specific assessment rates are zero or de minimis in the final results of review, we intend to instruct CBP to liquidate entries without regard to antidumping duties.³ The final results of this administrative review shall be the basis for the assessment of antidumping duties on entries of merchandise covered by the final results of this review and for future deposits of estimated duties, where applicable.⁴

³ See Antidumping Proceedings: Calculation of the Weighted-Average Dumping Margin and Assessment Rate in Certain Antidumping Proceedings; Final Modification, 77 FR 8101, 8102-03 (February 14, 2012); see also 19 CFR 351.106(c)(2).

⁴ See section 751(a)(2)(C) of the Act.

For entries of subject merchandise during the POR produced by Saha Thai and TPP, for which they did not know that its merchandise was destined for the United States, we will instruct CBP to liquidate unreviewed entries at the all-others rate if there is no rate for the intermediate company(ies) involved in the transaction.

Commerce intends to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of CWP from Thailand entered, or withdrawn from warehouse, for consumption on or after the date of publication as provided for by section 751(a)(2)(C) of the Act: (1) the cash deposit rate for Saha Thai and TPP will be equal to the weighted-average dumping margin established in the final results of this administrative review (i.e., 0.00 percent); (2) for merchandise exported by a company not covered in this review but covered in a prior completed segment of the proceeding, the cash deposit rate will continue to be the company-specific rate published in the completed segment for the most recent period; (3) if the exporter is not a firm covered in this review or another completed segment of this proceeding, but the producer is, then the cash deposit rate will be the company-specific rate established for the completed segment for the most recent period for the producer of the merchandise; and (4) the cash deposit rate for all other producers or exporters will continue to be 15.67 percent, the all-others rate established in the less-than-fair-value investigation.⁵ These cash deposit requirements, when imposed, shall remain in effect until further notice.

⁵ See Order.

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a final reminder to parties subject to an administrative protective order (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: May 22, 2024.
Ryan Majerus,
Deputy Assistant Secretary for Policy and Negotiations, performing the non-exclusive functions and duties of the Assistant Secretary for Enforcement and Compliance.

[FR Doc. 2024-11734 Filed 5-28-24; 8:45 am]

BILLING CODE 3510-DS-P